DEPARTMENT OF COMMERCE

National Oceanic and Atmospheric Administration

50 CFR Part 648

[Docket No. 101029427-0609-02]

RIN 0648-XA403

Fisheries of the Northeastern United States; Summer Flounder Fishery; Quota Transfer

AGENCY: National Marine Fisheries Service (NMFS), National Oceanic and Atmospheric Administration (NOAA), Commerce.

ACTION: Temporary rule; quota transfer.

SUMMARY: NMFS announces that the State of North Carolina is transferring a portion of its 2011 commercial summer flounder quota to the Commonwealth of Virginia and the State of New Jersey. Virginia is also transferring a portion of its 2011 commercial summer flounder quota to New Jersey. Vessels from North Carolina were authorized by Virginia to land summer flounder under safe harbor provisions, thereby requiring a quota transfer to account for an increase in Virginia's landings that would have otherwise accrued against the North Carolina quota. Additionally, a vessel experiencing mechanical problems was authorized to land in New Jersey, prompting a quota transfer from North Carolina and Virginia to account for an increase in landings in New Jersey. By this action, NMFS adjusts the quotas and announces the revised commercial quota for each state involved.

DATES: Effective May 18, 2011, through December 31, 2011.

FOR FURTHER INFORMATION CONTACT: Carly Knoell, Fishery Management Specialist, 978-281-9224.

SUPPLEMENTARY INFORMATION: Regulations governing the summer flounder fishery are found at 50 CFR part 648. The regulations require annual specification of a commercial quota that is apportioned among the coastal states from North Carolina through Maine. The process to set the annual commercial quota and the percent allocated to each state are described in § 648.100.

The final rule implementing Amendment 5 to the Summer Flounder, Scup, and Black Sea Bass Fishery Management Plan, which was published on December 17, 1993 (58 FR 65936), provided a mechanism for summer flounder quota to be transferred from one state to another. Two or more states, under mutual agreement and with the concurrence of the Administrator, Northeast Region, NMFS (Regional Administrator), can transfer or combine summer flounder commercial quota under § 648.100(d). The Regional Administrator is required to consider the criteria set forth in § 648.100(d)(3) in the evaluation of requests for quota transfers or combinations.

North Carolina has agreed to transfer 306,967 lb (139,237 kg) of its 2011 commercial quota to Virginia. This transfer was prompted by 43 summer flounder landings of North Carolina vessels that were granted safe harbor in Virginia due to hazardous shoaling in Oregon Inlet, North Carolina, severe winter storm conditions, and/or mechanical problems between April 4, 2011, and April 15, 2011, totaling 307,557 lb (139,505 kg). The transfer amount also includes a correction to a landing on March 24, 2011, that was included in the quota transfer effective April 21, 2011 (76 FR 23206). The difference is 590 lb (268 kg) less of summer flounder to be transferred; therefore, the total transfer amount is 306,967 lb (139,237 kg).

Additionally, on April 13, 2011, a vessel experienced mechanical problems and was granted safe harbor in New Jersey. This vessel landed 15,490 lb (7,026 kg) of summer flounder; North Carolina has agreed to transfer 5,490 lb (2,490 kg) of summer flounder to New Jersey and Virginia has agreed to transfer 10,000 lb (4,536 kg) of summer flounder to New Jersey. The Regional Administrator has determined that the criteria set forth in § 648.100(d)(3) have been met. The revised summer flounder quotas for calendar year 2011 are: North Carolina, 3,379,144 lb (1,532,754 kg); Virginia, 5,077,934 lb (2,303,312 kg); and New Jersey 2,921,480 lb (1,325,161 kg).

Classification

This action is taken under 50 CFR part 648 and is exempt from review under Executive Order 12866.

Authority: 16 U.S.C. 1801 et seq.

Dated: May 18, 2011.
Margo Schulze-Haugen,
Acting Director, Office of Sustainable Fisheries, National Marine Fisheries Service.

[FR Doc. 2011-12662 Filed 5-18-11; 4:15 pm]

BILLING CODE 3510-22-P